FEDERAL ELECTION COMMISSION

Sunshine Act Notices

Date and Time: Tuesday, January 27, 2004 at 10 a.m.

Place: 999 E Street, NW., Washington, DC.

Status: This meeting will be closed to the public.

Items to Be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

* * * * *

(Note: The starting time for the open meeting on January 29, 2004 has been changed to 2 p.m.)

Date and Time: Thursday, January 29, 2004, 2 p.m.

Place: 999 E Street, NW., Washington, DC (Ninth Floor).

Status: This meeting will be open to the public.

Items to Be Discussed: Correction and Approval of Minutes.

Draft Advisory Opinion 2004-01: Bush-Cheney '04, Inc. and Alice Forgy Kerr for Congress by Messrs. Benjamin L. Ginsberg, Thomas J. Josefiak, and William H. Piper, III.

Routine Administrative Matters.

FOR FURTHER INFORMATION CONTACT: Robert W. Biersack, Acting Officer, Telephone: (202) 694-1220.

Mary W. Dove,
Secretary of the Commission.

[FR Doc. 04-1499 Filed 1-20-04; 3:40 pm]

BILLING CODE 6715-01-M